NATIONAL SCIENCE FOUNDATION

Proposal Review Panel for Chemistry; Notice of Meeting

In accordance with the Federal Advisory Committee Act (Pub. L. 92-463 as amended), the National Science Foundation announces the following meeting:

Name: Proposal Review Panel for Chemistry, NHMFL CHE Site Visit, #1191.

Dates: May 26, 2009, 7 a.m.-5:30 p.m.; May 27, 2009, 7:30 a.m.-10 a.m.

Place: National High Magnetic Field Laboratory, Tallahassee, FL, 1800 E. Paul Dirac Drive, Tallahassee, FL.

Type of Meeting: Partly open.

Contact Person: Dr. Colby A. Foss, Jr., Program Director, Division of Chemistry, Chemical Instrumentation Program, National Science Foundation, 4201 Wilson Blvd., Arlington, VA 22230, (703) 292-8404.

Dr. Guebre X. Tessema, Program Director, Division of Materials Research, National Facilities Program National Science Foundation, 4201 Wilson Blvd., Arlington, VA 22230, (703) 292-4935.

Purpose of Meeting: To provide advice and recommendations regarding a proposal to develop and construct an advanced high magnetic field mass spectrometer.

Agenda:

Tuesday May 26, 2009

7 a.m.-9 a.m. Closed—Working Breakfast and Executive Session.

9 a.m.-12:30 p.m. Open—NHMFL Overview and Presentations, Tour of Facilities.

12:30 p.m.-1:30 p.m. Open—Lunch with graduate students.

1:30 p.m.-5:30 p.m. Closed—Executive Session.

Wednesday May 27, 2009

7:30 a.m.-10 a.m. Closed—Executive Session.

Reason for Closing: The work being reviewed may include information of a proprietary or confidential nature, including technical information; financial data such as salaries and personal information concerning individuals associated with the proposal. These matters are exempt under 5 U.S.C. 552b(c), (4) and (6) of the Government in the Sunshine Act.

Dated: April 28, 2009.
Susanne Bolton,
Committee Management Officer.

[FR Doc. E9-10023 Filed 4-30-09; 8:45 am]

BILLING CODE 7555-01-P